NUCLEAR REGULATORY COMMISSION

Advisory Committee on Reactor Safeguards, Subcommittee Meeting on Thermal-Hydraulic Phenomena; Notice of Meeting

The ACRS Subcommittee on Thermal-Hydraulic Phenomena will hold a meeting on March 14, 2006 at the Hyatt Regency Bethesda, One Bethesda Metro Center, Bethesda, Maryland 20814 in the Waterford Room.

The entire meeting will be open to public attendance, with the exception of portions that may be closed to discuss General Electric (GE) proprietary information pursuant to 5 U.S.C. 552b (c) (4).

The agenda for the subject meeting shall be as follows:

Tuesday, March 14, 2006-8:30 a.m. Until the Conclusion of Business

The Subcommittee will review the staff Safety Evaluation Report related to the use of TRACG to evaluate stability in the ESBWR. The Subcommittee will hear presentations by and hold discussions with representatives of the NRC staff, their contractors, GE and other interested persons regarding this matter. The Subcommittee will gather information, analyze relevant issues and facts, and formulate proposed positions and actions, as appropriate, for deliberation by the full Committee.

Members of the public desiring to provide oral statements and/or written comments should notify the Designated Federal Official, Mr. Ralph Caruso (Telephone: 301-415-8065) five days prior to the meeting, if possible, so that appropriate arrangements can be made. Electronic recordings will be permitted only during those portions of the meeting that are open to the public.

Further information regarding this meeting can be obtained by contacting the Designated Federal Official between 7:30 a.m. and 4:15 p.m. (ET). Persons planning to attend this meeting are urged to contact the above named individual at least two working days prior to the meeting to be advised of any potential changes to the agenda.

Dated: February 24, 2006.
Cayetano Santos,
Acting Branch Chief, ACRS/ACNW.

[FR Doc. E6-3040 Filed 3-2-06; 8:45 am]

BILLING CODE 7590-01-P